DEPARTMENT OF HOMELAND SECURITY

U.S. Customs and Border Protection

Approval of Intertek USA, Inc., Baytown, TX, as a Commercial Gauger

AGENCY: U.S. Customs and Border Protection, Department of Homeland Security.

ACTION: Notice of approval of Intertek USA, Inc., Baytown, TX, as a commercial gauger.

SUMMARY: Notice is hereby given, pursuant to CBP regulations, that Intertek USA, Inc., Baytown, TX, has been approved to gauge petroleum and petroleum products for customs purposes for the next three years as of September 29, 2014.

DATES: As of September 29, 2014, Intertek USA, Inc., Baytown, TX, was reapproved as a Customs-approved commercial gauger. The next triennial inspection date will be scheduled for September 2017.

FOR FURTHER INFORMATION CONTACT: Mr. Stephen Cassata, Laboratories and Scientific Services, U.S. Customs and Border Protection, 1300 Pennsylvania Avenue NW., Suite 1500N, Washington, DC 20229, tel. 202-344-1060.

SUPPLEMENTARY INFORMATION: Notice is hereby given pursuant to 19 CFR 151.13, that Intertek USA, Inc., 2612 West Main St., Baytown, TX 77520, has been approved to gauge and accredited to test petroleum and petroleum products in accordance with the provisions of 19 CFR 151.13. Intertek USA, Inc., is approved for the following gauging procedures for petroleum and certain petroleum products set forth by the American Petroleum Institute (API):

API chapters | Title
3 | Gauging.
7 | Temperature Determination.
8 | Sampling.
12 | Calculation of Petroleum Quantities.
17 | Marine Measurements.

Anyone wishing to employ this entity to conduct gauger services should request and receive written assurances from the entity that it is approved by the U.S. Customs and Border Protection to conduct the specific gauger service requested. Alternatively, inquiries regarding the specific gauger service this entity is approved to perform may be directed to the U.S. Customs and Border Protection by calling (202) 344-1060. The inquiry may also be sent to cbp.labhq@dhs.gov. Please reference the Web site listed below for a complete listing of CBP approved gaugers and accredited laboratories: http://www.cbp.gov/about/labs-scientific/commercial-gaugers-and-laboratories.

Dated: August 31, 2017.
Ira S. Reese,
Executive Director, Laboratories and Scientific Services.

[FR Doc. 2017-19264 Filed 9-11-17; 8:45 am]

BILLING CODE 9111-14-P